DEPARTMENT OF COMMERCE

National Oceanic and Atmospheric Administration

RIN: 0648-XD98

North Pacific Fishery Management Council; Public Meetings

AGENCY: National Marine Fisheries Service (NMFS), National Oceanic and Atmospheric Administration (NOAA), Commerce.

ACTION: Notice of public meetings of the North Pacific Fishery Management Council and its advisory committees.

SUMMARY: The North Pacific Fishery Management Council (Council) and its advisory committees will hold public meetings, December 3-11, 2007, in Anchorage AK.

DATES: The meetings will be held on December 3, 2007 through December 11, 2007. See SUPPLEMENTARY INFORMATION for specific dates and times.

ADDRESSES: Council meeting - Anchorage Hilton Hotel, 500 West 3rd Avenue, Anchorage, Alaska

Council address: North Pacific Fishery Management Council, 605 W. 4th Avenue, Suite 306, Anchorage, AK 99501-2252.

FOR FURTHER INFORMATION CONTACT: David Witherell, Council staff, Phone: 907-271-2809.

SUPPLEMENTARY INFORMATION: The Council will begin its plenary session at 8 a.m. on Wednesday, December 5 continuing through Tuesday December 11, 2007. The Council's Advisory Panel (AP) will begin at 8 a.m., Monday, December 3 and continue through Saturday December 8. The Scientific and Statistical Committee (SSC) will begin at 8 a.m. on Monday, December 3 and continue through Wednesday December 5, 2007. The Enforcement Committee will meet Tuesday, October 2, from 9 a.m. to 12 p.m. in the Iliamna Room. The Ecosystem Committee will meet 1 p.m. to 5 p.m. in the Iliamna Room. All meetings are open to the public, except executive sessions.

Council Plenary Session: The agenda for the Council's plenary session will include the following issues. The Council may take appropriate action on any of the issues identified.

1. Reports

Executive Director's Report

NMFS Management Report (including update on National Bycatch Report, update on 2C rulemaking, report on crab loan program, report on constructive loss issues, Restricted Access Management Division report on crab program)

U.S. Coast Guard Report

Alaska Department of Fish & Game Report (including a report on Board of Fisheries actions, subsistence halibut survey)

U.S. Fish & Wildlife Service Report

Protected Species Report (including 2007 Steller Sea Lion (SSL) survey results, integrated weight groundline seabird deterrence Exempted Fishery Permit (EFP), update on SSL recovery Plan/Biological Opinion/Environmental Impact Statement(EIS))

2. Charter Halibut Management: Committee report on longterm solutions and allocations/reallocation; Review progress on Charter Halibut Allocation/Reallocation and provide direction/refine alternatives as necessary.

3. Bering Sea Aleutian Island (BSAI) Crab Issues: Preliminary review of BSAI 'C' Share active participation; Final action on BSAI Crab 'C' share 90/10 exemption; Final action on BSAI Crab custom processing; Final action on BSAI Crab post-delivery transfers; Review workplan on BSAI Crab 3 year review, action as necessary.

4. Gulf of Alaska (GOA) Groundfish Issues: Progress report on GOA Pacific cod sector split, direction as necessary; Review discussion paper on GOA sideboards; action as necessary; Final action on GOA pollock trip limit; Final action on Central Gulf of Alaska rockfish post-delivery transfers.

5. License Limitation Program (LLP) Trawl Recency: Initial review of EA/RIR/IRFA on alternatives to address modifications to LLP requirements.

6. Amendment 80: Initial review of Amendment 80 post-delivery transfers and rollovers.

7. Observer Program: Initial review Observer Program regulation package.

8. American Fisheries Act (AFA) permit Application: Receive public comment and formulate Council recommendations on Adak Fisheries application for an unrestricted AFA inshore processor permit and formulate Council recommendations.

9. Groundfish Management: BSAI Salmon Workgroup report, review Notice of Intent and refine alternatives; Discussion paper on Vessel Monitoring System exemption for dinglebar gear; Review discussion paper 'Other Species'; Non-target Committee report; Supplemental Information Report on specifications EIS, action as necessary; Final action on groundfish specification and Stock Assessment Fishery Evaluation (SAFE) reports; Review discussion paper on GOA salmon and crab bycatch.

10. Crab Overfishing Definitions; Final action on BSAI crab overfishing definitions.

11. Ecosystem Issues: Update on outreach efforts for Arctic Fishery Management Plan; report from Ecosystem Committee on Aleutian Island Fishery Ecosystem Plan Implementation; Alaska Regional Collaborative Team report.

12. Staff Tasking; Review Committees and tasking, and take action as necessary; Review broader (Programmatic Supplemental Environmental Impact Statement) community outreach plan and actions pursuant to the NMFS Policy on stakeholder participation (pursuant to Government Accounting Office report).

13. Other Business

The SSC agenda will include the following issues:

1. LLP Trawl Recency

2. Amendment 80

3. Observer Program

4. SIR on specifications EIS, action as necessary

5. Final action on groundfish specifications and SAFE reports

6. Crab Overfishing Definition

7. Integrated Groundline Weight EFP; 4E analysis methodology

The Advisory Panel will address the same agenda issues as the Council, except for reports. The Agenda is subject to change, and the latest version will be posted at http://www.fakr.noaa.gov/npfmc/.

Special Accommodations

These meetings are physically accessible to people with disabilities. Requests for sign language interpretation or other auxiliary aids should be directed to Gail Bendixen at (907) 271-2809 at least 7 working days prior to the meeting date.

Dated: November 15, 2007.
Tracey L. Thompson,
Acting Director, Office of Sustainable Fisheries, National Marine Fisheries Service.

[FR Doc. E7-22638 Filed 11-19-07; 8:45 am]

BILLING CODE 3510-22-S